EXPORT-IMPORT BANK OF THE UNITED STATES

Economic Impact Policy

This notice is to inform the public that the Export-Import Bank of the United States has received an application for a $25.1 million guarantee to support the U.S. export of aircraft tooling equipment to Mexico and the United Kingdom. The U.S. exports will enable the Mexican and British facilities to produce composite aircraft parts. All of the new Mexican and British production will be sent back to the U.S. for final assembly into business aircraft. Available information indicates that this type of supply chain structure exists because of the need for industry participants to produce technically specific goods at proprietary facilities. Interested parties may submit comments on this transaction by e-mail to economic.impact@exim.gov or by mail to 811 Vermont Avenue, NW., Room 947, Washington, DC 20571, within 14 days of the date this notice appears in the Federal Register.

John F. Simonson,
Senior Vice President and Chief Financial Officer.

[FR Doc. 2011-22378 Filed 8-31-11; 8:45 am]

BILLING CODE 6690-01-P